ELECTION ASSISTANCE COMMISSION

Sunshine Act Notice

AGENCY: U.S. Election Assistance Commission.

ACTION: Notice of public meeting agenda.

DATE AND TIME: Monday, January 25, 2010, 1 p.m.-3 p.m. EDT.

Place: U.S. Election Assistance Commission, 1225 New York Ave, NW., Suite 150, Washington, DC 20005 (Metro Stop: Metro Center).

Agenda: The Commission will hold a public meeting to consider administrative matters. The Commission will receive an update regarding the Memorandum of Understanding (MOU) with the Organization of American States (OAS). The Commission will receive an update on Maintenance of Effort. Per the tally vote policy of the Commission, two items have been placed on the agenda for consideration: the Commission will consider Advisory Opinion Request 09-016 and the Commission will consider the Annual Grants Report.

Members of the public may observe but not participate in EAC meetings unless this notice provides otherwise. Members of the public may use small electronic audio recording devices to record the proceedings. The use of other recording equipment and cameras requires advance notice to and coordination with the Commission's Communications Office.*

* View EAC Regulations Implementing Government in the Sunshine Act.

This meeting and hearing will be open to the public.

Person to Contact for Information: Bryan Whitener, Telephone: (202) 566-3100.

Gineen Bresso Beach,
Chair, U.S. Election Assistance Commission.

[FR Doc. 2010-1058 Filed 1-15-10; 4:15 pm]

BILLING CODE 6820-KF-P